DEPARTMENT OF HEALTH AND HUMAN SERVICES

Centers for Medicare & Medicaid Services

[Document Identifier: CMS-10823 and CMS-588]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by February 21, 2023.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10823 End-stage Renal Disease (ESRD) Quality Incentive Program (QIP): Study of Quality and Patient Experience

CMS-588 Electronic Funds Transfer (EFT) Authorization Agreement

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: New Collection (Request for new OMB control number); Title of Information Collection: End-stage Renal Disease (ESRD) Quality Incentive Program (QIP): Study of Quality and Patient Experience; Use: The Centers for Medicare & Medicaid Services (CMS) oversees the quality of care provided by dialysis facilities by administering the Quality Incentive Program (QIP). As part of the evaluation of this program, CMS seeks to gain a deeper understanding of emerging trends observed across the dialysis landscape by conducting qualitative data collection and analysis. These primary qualitative data collection activities seek to answer the following research questions related to dialysis quality, access to care, health equity, and quality of life:

1. What aspects of patient dialysis care do patients report as a priority?

2. How, if at all, do dialysis facilities evaluate the quality of care they provide?

3. What strategies do providers and dialysis facilities use to improve access to care for underserved populations?

4. What do patients, providers, and stakeholder organizations believe contributes to high quality of life for patients with ESRD? Do perceptions vary by respondent type or respondent characteristics?

5. How do dialysis facilities measure patient satisfaction and quality of life?

6. How do dialysis providers and stakeholder organizations think quality of life for dialysis patients has changed over time? What was the impetus for that change?

We are requesting to collect information through indepth interviews with stakeholders of the CMS end-stage renal disease (ESRD) Quality Incentive Program (QIP). The interviews will collect data from individuals with ESRD, dialysis facility administrators, dialysis social workers, transplant center administrators, corporate representatives from dialysis organizations, and patient advocacy organizations.

This data collection seeks to answer several research questions specific to health outcomes for dialysis patients, as measured by the QIP, that are not available through current literature or secondary data collection. In preparation for this study, the evaluation team conducted a scan of peer-reviewed literature and document review of previous ESRD QIP monitoring and evaluation reports and policy documents describing CMS priorities. Based on the results from this scan, the study team identified persistent knowledge gaps and opportunities for primary data collection. Drawing on high-quality data, empirical rigor, and knowledge of nonprogrammatic factors, the evaluation will benefit CMS by providing data-driven findings and recommendations to improve patient care, reduce health disparities, and promote health equity.

This primary data collection will allow CMS to more comprehensively understand the data being compiled and analyzed quantitatively and will provide more context related to dialysis quality, quality of life of individuals with ESRD, access to dialysis care, and the patient experience, which are current CMS priorities. Form Number: CMS-10823 (OMB control number: 0938-NEW); Frequency: Once; Affected Public: Private Sector (Business or other for-profits, Not-for-Profit Institutions), Individuals and Households; Number of Respondents: 1,945; Total Annual Responses: 1,945; Total Annual Hours: 604. (For policy questions regarding this collection contact Christopher King at (410) 786-6972).

2. Type of Information Collection Request: Revision of a currently approved collection; Title of Information Collection: Electronic Funds Transfer Authorization Agreement; Use: Section 1815(a) of the Social Security Act provides the authority for the Secretary of Health and Human Services to pay providers/suppliers of Medicare services at such time or times as the Secretary determines appropriate (but no less frequently than monthly). Under Medicare, CMS, acting for the Secretary, contracts with Fiscal Intermediaries and Carriers to pay claims submitted by providers/suppliers who furnish services to Medicare beneficiaries. Under CMS' payment policy, Medicare providers/suppliers have the option of receiving payments electronically. The collection and verification of this information via Form CMS-588 protects our beneficiaries from illegitimate health care providers/suppliers. These procedures also protect the Medicare Trust Funds against fraud. Form Number: CMS-588 (OMB control number: 0938-0626); Frequency: Occasionally; Affected Public: Business or other for-profit and Not-for-profit institutions; Number of Respondents: 115,833; Total Annual Responses: 115,833; Total Annual Hours: 57,917. (For policy questions regarding this collection contact Frank Whelan at (410) 786-1302.

Dated: December 19, 2022.
William N. Parham, III,
Director, Paperwork Reduction Staff, Office of Strategic Operations and Regulatory Affairs.

[FR Doc. 2022-27864 Filed 12-21-22; 8:45 am]

BILLING CODE 4120-01-P